CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled Financial Management Survey for review and approval in accordance with the Paperwork Reduction Act of 1995, Public Law 104-13, (44 U.S.C. Chapter 35). Copies of this ICR, with applicable supporting documentation, may be obtained by calling the Corporation for National and Community Service, Margaret Rosenberry at (202) 606-6974 or e-mail to prosenbe@cns.gov. Individuals who use a telecommunications device for the deaf (TTY-TDD) may call 1-800-833-3722 between 8 a.m. and 8 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on January 12, 2011. This comment period ended March 13, 2011. No public comments were received from this Notice.

Description: The Corporation is seeking approval of the Financial Management Survey which the Corporation uses to collect information from new grantees about their financial management systems. This allows the Corporation to meet its responsibilities as a Federal grantee agency to determine if appropriate systems are in place to manage federal grant funds or, if not, to identify training and technical assistance a new grantee may need to implement appropriate financial systems. The Corporation requires new grantees who have not received Corporation funds before to complete the form.

Type of Review: Renewal.

Agency: Corporation for National and Community Service.

Title: Financial Management Survey.

OMB Number: 3045-0102.

Agency Number: None.

Affected Public: Organizations that are new grantees to the Corporation.

Total Respondents: 20.

Frequency: Once.

Average Time per Response: Averages 45 minutes to complete the form and one hour to gather and submit the requested documents.

Estimated Total Burden Hours: 35.

Total Burden Cost (capital/startup): None.

Total Burden Cost (operating/maintenance): None.

Dated: May 17, 2011.
Margaret Rosenberry,
Director of Grants Management.

[FR Doc. 2011-12493 Filed 5-19-11; 8:45 am]

BILLING CODE 6050-$$-P